DEPARTMENT OF THE INTERIOR

National Park Service

[NPS-WASO-NAGPRA-16409; PPWOCRADN0-PCU00RP14.R50000]

Notice of Inventory Completion: Stephen F. Austin State University, Nacogdoches, TX

AGENCY: National Park Service, Interior.

ACTION: Notice.

SUMMARY: The Stephen F. Austin State University has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Stephen F. Austin State University. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Stephen F. Austin State University at the address in this notice by October 10, 2014.

ADDRESSES: Dr. Jerry Williams, Stephen F. Austin State University, P.O. Box 13047, SFA Station, Nacogdoches, TX 75962, telephone (936) 468-2306.

SUPPLEMENTARY INFORMATION: Notice is here given in accordance with the Native American Graves Protection and Repatriation Act (NAGPRA), 25 U.S.C. 3003, of the completion of an inventory of human remains and associated funerary objects under the control of Stephen F. Austin State University, Nacogdoches, TX. The human remains and associated funerary objects were removed from sites in the Big Cypress Creek Basin in Camp County, TX.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Stephen F. Austin University (SFA) professional staff, Barbara Jackson, and SFA students Melanie Johnson, Brittney Simpson, and Sarah Calabrese, under the supervision of George Avery and Leslie Cecil, and in conjunction with Archeological & Environmental Consultants, LLC, Austin, TX, and included Tim Pertulla, Mark Walters, Bo Nelson, and Zac Selden, SFA Research Associate, in consultation with representatives of representatives of the Caddo Nation of Oklahoma.

History and Description of the Remains

The Robert L. Turner Jr. Collection contains human remains and associated funerary objects from four sites, all of which are from the Big Cypress Creek Basin. In 2012, Robert L. Turner Jr. donated associated funerary objects to the SFA Archaeological Laboratory. A few pieces of bone and some teeth were also in the collection. Most of the human remains were donated to the Texas Archaeological Research Laboratory (TARL) at the University of Texas in Austin. In 2013, the human remains were transferred from TARL to the SFA Archaeology Laboratory.

Between 1963 and 1967, human remains representing, at minimum, 29 individuals (Turner 1978:1) were removed from the Tuck Carpenter site (41CP5) in Camp County, TX. The human remains from Burial 6 are from an adult female. The human remains from Burial 7 are from an adult female. The human remains from Burial 9 include two teeth. One is a molar and the other is a canine. There is also a fragment of a tooth that is too small to identify. The human remains from Burial 10 are from an adult female. The human remains from Burial 11 are from an adult of indeterminate gender. The human remains from Burial 13 are from an adult female. The human remains from Burial 14 are from an adult female. The human remains from Burial 15 are from an older adult male. The human remains from Burial 16 are from an adult of indeterminate gender. The human remains from Burial 17 are from an adult female. The human remains from Burial 18 are from an older adult male. The human remains from Burial 19 are from an adult female. The human remains from Burial 20 are from an adult female. The human remains from Burial 21 North are from an adult male. The human remains from Burial 21 South are from an adult of indeterminate gender. The human remains from Burial 26 are from an adult of indeterminate gender. The human remains from Burial 27 include two teeth and four bone fragments. One tooth is a molar and the other is either a molar or a premolar. Three of the bone fragments are tooth roots and the fourth is a bone fragment from the right mandible bone. The human remains from Burial 29 are from an adult of indeterminate gender. The human remains from Burial 31 are from an adult of indeterminate gender. The human remains from Burial 32 are from an adult male. The human remains from Burial 33 are from an adult of indeterminate gender. The human remains from Burial 34 are from an adult male and an adolescent of indeterminate gender. The human remains from Burial 36 are from an adolescent of indeterminate gender. The human remains from Burial 38 are from an adult female. The human remains from Burial 39 are from an adult female. The human remains from Burial 40 are from an older adult female. The human remains from Burial 41 are from an adult male. The human remains from Burial 45 are from an adult female. No known individuals were identified. The 715 associated funerary objects are 106 vessels, 159 lithics, 2 pipes, 38 shell fragments, 108 animal bones, 210 miscellaneous sherds, and 92 other objects.

Between 1963 and 1967, human remains representing, at minimum, 2 individuals (Turner 1978:1) were removed from an unknown location, possibly from the Tuck Carpenter site (41CP5) in Camp County, TX. The human remains from two unknown burials are from two adult males. No known individuals were identified. No associated funerary objects are present.

Between 1966 and 1984, human remains representing, at minimum, 2 individuals (Perttula et al. 2010b) were removed from the Johns site (41CP12) in Camp County, TX. The human remains from Burial 4 in the collection include fourteen teeth. There are five molars, seven premolars, and two incisors. The human remains from Burial 16 include fourteen teeth. There are twelve molars, one premolar, and an incisor. No known individuals were identified. The 13 associated funerary objects are 8 vessels and 5 lithics.

In 1958, human remains representing, at minimum, 1 individual (Perttula et al. 2010a) were removed from the Craydon Adkins #2 site (41CP17) in Camp County, TX. The human remains are several teeth (n=5) and bone fragments (n=3) from Burial 4. No known individuals were identified. The 1 associated funerary object is a vessel.

Determinations Made by the Stephen F. Austin University

Officials of Stephen F. Austin State University have determined that:

• Pursuant to 25 U.S.C. 3001(9), the human remains described in this notice represent the physical remains of 34 individuals of Native American ancestry.

• Pursuant to 25 U.S.C. 3001(3)(A), the 729 objects described in this notice are reasonably believed to have been placed with or near individual human remains at the time of death or later as part of the death rite or ceremony.

• Pursuant to 25 U.S.C. 3001(2), there is a relationship of shared group identity that can be reasonably traced between the Native American human remains and associated funerary objects and the Caddo Nation of Oklahoma.

Additional Requestors and Disposition

Lineal descendants or representatives of any Indian tribe or Native Hawaiian organization not identified in this notice that wish to request transfer of control of these human remains and associated funerary objects should submit a written request with information in support of the request to Dr. Jerry Williams, Stephen F. Austin State University, P.O. Box 13047, SFA Station, Nacogdoches, TX 75962, telephone (936) 468-2306, before October 10, 2014. After that date, if no additional requestors have come forward, transfer of control of the human remains and associated funerary objects to the Caddo Nation of Oklahoma may proceed.

Stephen F. Austin State University is responsible for notifying the Caddo Nation of Oklahoma that this notice has been published.

Dated: August 1, 2014.
Melanie O'Brien,
Acting Manager, National NAGPRA Program.

[FR Doc. 2014-21486 Filed 9-9-14; 8:45 am]

BILLING CODE 4312-50-P